DELAWARE RIVER BASIN COMMISSION

18 CFR Part 410

Amendments to the Water Quality Regulations, Water Code and Comprehensive Plan To Update Water Quality Criteria for Toxic Pollutants in the Delaware Estuary and Extend These Criteria to Delaware Bay

AGENCY: Delaware River Basin Commission.

ACTION: Final rule.

SUMMARY: By Resolution No. 2010-13 on December 8, 2010, the Delaware River Basin Commission (DRBC or “Commission”) approved amendments to its Water Quality Regulations, Water Code and Comprehensive Plan to update the Commission's human health and aquatic life stream quality objectives (also called water quality criteria) for toxic pollutants in the Delaware Estuary (DRBC Water Quality Zones 2 through 5) and extended application of the criteria to Delaware Bay (DRBC Water Quality Zone 6).

DATES: Effective Date: March 23, 2011. The incorporation by reference of the publications listed in this rule is approved by the Director of the Federal Register as of March 23, 2011.

FOR FURTHER INFORMATION CONTACT: For questions about the technical basis for the rule, please contact Dr. Ronald MacGillivray at 609-477-7252.

SUPPLEMENTARY INFORMATION: The Delaware River Basin Commission is a federal-state regional agency charged with managing the water resources of the Delaware River Basin without regard to political boundaries. Its members are the governors of the four basin states—Delaware, New Jersey, New York, and Pennsylvania—and the North Atlantic Division Commander of the U.S. Army Corps of Engineers, representing the Federal government.

Notice of the proposed amendments appeared in the Federal Register (75 FR 41106) on July 15, 2010 as well as in the Delaware Register of Regulations (14 DE Reg. 70-83 (08/01/2010)) on August 1, 2010, the New Jersey Register (42 N.J.R. 1701(a)) on August 4, 2010, the New York State Register (p. 6) on July 21, 2010 and the Pennsylvania Bulletin (40 Pa. B. 4208) on July 31, 2010. A public hearing was held on September 23, 2010 and written comments were accepted through October 1, 2010. The commission received two written submissions and no oral testimony on the proposed changes. The Commission made minor revisions to the proposed amendments in response to the comments received. A comment and response document setting forth the Commission's responses and revisions in detail was approved by the Commission simultaneously with adoption of the final rule.

Resolution No. 2010-13, the text of the final rule, a copy of the comment and response document, and a basis and background document published simultaneously with the proposed rule are available on the Commission's Web site, at http://www.state.nj.us/drbc/toxics_info.htm.

List of Subjects in 18 CFR Part 410

Incorporation by reference, Water audit, Water pollution control, Water reservoirs, Water supply, Watersheds.

For the reasons set forth in the preamble, the Delaware River Basin Commission amends part 410 of title 18 of the Code of Federal Regulations as follows:

PART 410—BASIN REGULATIONS; WATER CODE AND ADMINISTRATIVE MANUAL—PART III WATER QUALITY REGULATIONS

1. The authority citation for part 410 continues to read as follows:

Authority: Delaware River Basin Compact, 75 Stat. 688.

2. Amend § 410.1 by revising the first sentence of paragraph (c) to read as follows:

§ 410.1 Basin regulations—Water Code and Administrative Manual—Part III Water Quality Regulations.

* * * * *

(c) Work, services, activities and facilities affecting the conservation, utilization, control, development or management of water resources within the Delaware River Basin are subject to regulations contained within the Delaware River Basin Water Code with Amendments Through December 8, 2010 and the Administrative Manual—Part III Water Quality Regulations with Amendments Through December 8, 2010. * * *

Dated: March 15, 2011.
Pamela M. Bush,
Commission Secretary.

[FR Doc. 2011-6636 Filed 3-22-11; 8:45 am]

BILLING CODE 6360-01-P